DEPARTMENT OF TRANSPORTATION

Federal Aviation Administration

14 CFR Part 39

[Docket No. 99-NM-296-AD; Amendment 39-12535; AD 2001-24-18]

RIN 2120-AA64

Airworthiness Directives; McDonnell Douglas Model DC-9-10, -30, and -40 Series Airplanes and C-9 Airplanes

AGENCY: Federal Aviation Administration, DOT.

ACTION: Final rule.

SUMMARY: This amendment adopts a new airworthiness directive (AD), applicable to certain McDonnell Douglas Model DC-9-10, -30, and -40 series airplanes and C-9 airplanes, that requires revising the wiring of the sidewall lights in the forward and aft passenger compartment. The actions specified by this AD are intended to prevent the control switch of the cabin sidewall lights on the forward attendant's panel from overheating, which could result in shorting of the dim, bright, and power terminals, and consequent smoke/fire in the passenger compartment. This action is intended to address the identified unsafe condition.

DATES: Effective January 16, 2002.

The incorporation by reference of certain publications listed in the regulations is approved by the Director of the Federal Register as of January 16, 2002.

ADDRESSES: The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-10, -30, and -40 series airplanes and C-9 airplanes was published in the Federal Register on July 23, 2001 (66 FR 38180). That action proposed to require revising the wiring of the sidewall lights in the forward and aft passenger compartment.

Comments

Interested persons have been afforded an opportunity to participate in the making of this amendment. Due consideration has been given to the comments received.

Change Applicability

One commenter recommends that, because the proposed rule cites a specific Douglas service bulletin, which, in turn, cites a specific set of part numbers, the proposed rule apply only to those airplanes that have not been modified and still use the original Douglas switch and transformer assemblies. Another commenter also recommends that the proposed rule be changed to apply only to airplanes that have not been modified. The first commenter states that Note 1 of the proposed rule specifies that the rule applies to airplanes identified in the applicability provision, regardless of whether the airplanes have been modified, altered, or repaired in the area affected by the AD. The commenter also notes that paragraph (a) of the proposed rule references McDonnell Douglas Alert Service Bulletin DC9-33A062, Revision 01, dated April 24, 2000, which identifies specific switch and transformer part numbers that need to be reworked to prevent the possibility of a shorted switch causing the flight attendant switch panel to overheat. The commenter adds that as part of its “Interior 2000” modification it removed the switches and transformers cited in the referenced service bulletin, and now uses a different switch with a different part number, and does not use the transformers at all.

The FAA does not concur with the requests to revise the applicability in the final rule to specify unmodified airplanes only. If an airplane has been modified in such a manner that the service information referenced in the final rule does not apply, Note 1 of the final rule states that the owner/operator must request an alternative method of compliance (AMOC). If the commenter can provide data that show that an acceptable level of safety can be achieved through the modification it described, the commenter may request approval of an AMOC in accordance with paragraph (b) of this AD. No change to the final rule is necessary in this regard.

Explanation of Change Made to the Final Rule

The FAA has changed paragraph (a) of the final rule that requires revising the wiring of the sidewall lights in the forward and aft passenger compartments, per McDonnell Douglas Alert Service Bulletin DC9-33A062, Revision 01, dated April 24, 2000, and McDonnell Douglas DC-9 Service Bulletin 33-63, dated May 6, 1976. The FAA inadvertently used “and” instead of “or” for revising the wiring per both service bulletins; however, either service bulletin may be used for accomplishment of the action.

Conclusion

After careful review of the available data, including the comments noted above, the FAA has determined that air safety and the public interest require the adoption of the rule with the change previously described. The FAA has determined that this change will neither increase the economic burden on any operator nor increase the scope of the AD.

Cost Impact

There are approximately 588 Model DC-9-10, -30, and -40 series airplanes and C-9 airplanes of the affected design in the worldwide fleet. The FAA estimates that 288 airplanes of U.S. registry will be affected by this AD, that it will take approximately 21 work hours per airplane to accomplish the required actions, and that the average labor rate is $60 per work hour. Required parts will cost approximately $500 per airplane. Based on these figures, the cost impact of the AD on U.S. operators is estimated to be $506,880, or $1,760 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-18 McDonnell Douglas: Amendment 39-12535. Docket 99-NM-296-AD.

Applicability: Model DC-9-10, -20, -30, and -40 series airplanes and C-9 airplanes, as listed in McDonnell Douglas Alert DC9-33A062, Revision 01, dated April 24, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent the control switch of the cabin sidewall lights on the forward attendant's panel from overheating, which could result in shorting of the dim, bright, and power terminals, and consequent smoke/fire in the passenger compartment, accomplish the following:

Revision of Wiring

(a) Within 1 year after the effective date of this AD, revise the wiring of the sidewall lights in the forward and aft passenger compartments, per McDonnell Douglas Alert Service Bulletin DC9-33A062, Revision 01, dated April 24, 2000, or McDonnell Douglas DC-9 Service Bulletin 33-63, dated May 6, 1976.

Note 2: Revising the wiring before the effective date of this AD per McDonnell Douglas DC-9 Service Bulletin 33-62, dated February 11, 1976, is considered acceptable for compliance with the requirements of this AD.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The action shall be done in accordance with McDonnell Douglas Alert Service Bulletin DC9-33A062, Revision 01, dated April 24, 2000; and McDonnell Douglas DC-9 Service Bulletin 33-63, dated May 6, 1976. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on January 16, 2002.

Issued in Renton, Washington, on November 28, 2001.
Vi L. Lipski,
Manager, Transport Airplane Directorate, Aircraft Certification Service.

[FR Doc. 01-30194 Filed 12-11-01; 8:45 am]

BILLING CODE 4910-13-P